DEPARTMENT OF STATE

[Public Notice 6260]

Correction of Advisory Committee Meeting Information, Advisory Committee on International Postal and Delivery Services

AGENCY: Department of State.

ACTION: Notice; correction.

SUMMARY: The Department of State published a document in the Federal Register of June 6, 2008, concerning the meeting location and date for the meeting of the Advisory Committee on International Postal and Delivery Services. The meeting date and location were incorrect in the announcement.

FOR FURTHER INFORMATION CONTACT: Christopher Wood, Office of Technical Specialized Agencies (IO/T), Bureau of International Organization Affairs, U.S. Department of State, at (202) 647-1044, woodcs@state.gov.

Correction

In the Federal Register of June 6, 2008, in 93 FR on page 32382, in the first column, correct the “Date” and “Location” captions to read:

DATES: July 10, 2008 from 2:00 p.m. to about 5:30 p.m. (open to the public).

Location: Melrose Hotel, 2430 Pennsylvania Avenue, NW., Washington, DC 20037.

Dated: June 11, 2008.
Dennis M. Delehanty,
Designated Federal Officer, Advisory Committee on International Postal and Delivery Services.

[FR Doc. E8-13513 Filed 6-13-08; 8:45 am]

BILLING CODE 4710-19-P